POSTAL SERVICE

Sunshine Act Meeting

Board Votes To Close July 15, 2009, Meeting

At its closed session meeting on June 23, 2009, the Board of Governors of the United States Postal Service voted unanimously to close to public observation its meeting to be held on July 15, 2009, in Washington, DC via teleconference. The Board determined that no earlier public notice was possible.

Items Considered:

1. Financial Matters.

2. Strategic Issues.

3. Pricing.

4. Personnel Matters and Compensation Issues.

5. Governors' Executive Session—discussion of prior agenda items and Board Governance.

General Counsel Certification: The General Counsel of the United States Postal Service has certified that the meeting is properly closed under the Government in the Sunshine Act.

Contact Person For More Information: Requests for information about the meeting should be addressed to the Secretary of the Board, Julie S. Moore, at (202) 268-4800.

Julie S. Moore,
Secretary.

[FR Doc. E9-16373 Filed 7-7-09; 4:15 pm]

BILLING CODE 7710-12- P